DEPARTMENT OF COMMERCE

Bureau of Industry and Security

Export and Reexport Controls for Iraq

ACTION: Proposed collection; comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before October 4, 2004.

ADDRESSES: Direct all written comments to Diana Hynek, DOC Paperwork Clearance Officer, (202) 482-2066, Department of Commerce, Room 6625, 14th and Constitution Avenue, NW., Washington, DC 20230 (or via Internet at dHynek@doc.gov.)

FOR FURTHER INFORMATION CONTACT: Requests for additional information or copies of the information collection instrument(s) and instructions should be directed to George Ipock, BIS ICB Liaison, (202) 482-5569, Department of Commerce, Room 6622, 14th and Constitution Avenue, NW., Washington, DC 20230.

SUPPLEMENTARY INFORMATION:

I. Abstract

The primary purpose of this proposed collection of information is to establish a new and expedited export license type developed specifically for exports and reexports of controlled items destined to civil infrastructure rebuilding projects in Iraq. The name given this license type is the Special Iraq Reconstruction License or SIRL. The information furnished by U.S. exporters provides the basis for decisions to grant licenses for export, reexport, and classifications of commodities, goods and technologies that are controlled for reasons of national security and foreign policy.

II. Method of Collection

Submitted on form BIS-748P or electronically through the Simplified Network Application Process (SNAP).

III. Data

OMB Number: 0694-0129.

Form Number: BIS-748P.

Type of Review: Regular submission for extension of a currently approved collection.

Affected Public: Individuals, businesses or other for-profit and not-for-profit institutions.

Estimated Number of Respondents: 25.

Estimated Time Per Response: 3 to 3.5 hours per response.

Estimated Total Annual Burden Hours: 88.

Estimated Total Annual Cost: No start-up capital expenditures.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they will also become a matter of public record.

Dated: July 30, 2004.
Madeleine Clayton,
Management Analyst, Office of the Chief Information Officer.

[FR Doc. 04-17801 Filed 8-3-04; 8:45 am]

BILLING CODE 3510-33-P